NATIONAL SCIENCE FOUNDATION

Notice of Public Listening Sessions on Federal Agency Implementation of the National Science and Technology Council Framework for Federal Scientific Integrity Policy and Practice

AGENCY: U.S. National Science Foundation (NSF).

ACTION: Notice of public meeting.

SUMMARY: The U.S. National Science Foundation (NSF), on behalf of the Federal agencies and departments participating on the National Science and Technology Council (NSTC) Subcommittee on Scientific Integrity (the Subcommittee), is organizing two virtual listening sessions to hear from members of the public about recommendations, issues and concerns related to Federal department and agency implementation of the NSTC Framework for Federal Scientific Integrity Policy and Practice (the Framework).

DATES: The listening sessions are scheduled for Friday, September 15, 2023, 1 p.m.-3 p.m. EST and Wednesday, September 20, 2023, 5 p.m.-7 p.m. EST (see details in SUPPLEMENTARY INFORMATION). Register in advance for one of the listening sessions here: https://nsf.zoomgov.com/webinar/register/WN_eEzNgbUnTwiMUI2bozDkgw.

ADDRESSES: You may submit written comments by email to ScientificIntegrityRFI@ostp.eop.gov with the subject line “Scientific Integrity Policy Implementation Feedback.”

FOR FURTHER INFORMATION CONTACT: For further information regarding the Scientific Integrity Policy Implementation listening sessions, contact ScientificIntegrityRFI@ostp.eop.gov. Contact: Cori Bassett, Communications Committee Co-chair, SOSI Intergovernmental Working Group, 2415 Eisenhower Ave. Alexandria, VA 22314; Telephone: 703-292-2932.

SUPPLEMENTARY INFORMATION: The National Science and Technology Council (NSTC) Subcommittee on Scientific Integrity (the Subcommittee) was established in response to the 2023 NSTC Framework for Federal Scientific Integrity Policy and Practice. The Subcommittee is supporting the development of scientific integrity policies at Federal departments and agencies and seeks public input on the development and implementation of these policies and associated procedures and practices. NSF, on behalf of the Federal agencies and departments participating in the Subcommittee, is organizing two virtual listening sessions to hear from members of the public. Perspectives gathered during the virtual listening sessions will inform: (1) Federal agencies' finalization of Scientific Integrity Policies, in response to the Framework and its implementation memorandum from the Office of Science and Technology Policy; (2) Federal agency processes, procedures, and practices related to scientific integrity; and (3) other elements of Federal implementation of the Framework.

Staff from the U.S. National Science Foundation will facilitate the listening sessions, which may be recorded for use by the Subcommittee and shared with agencies implementing a scientific integrity policy. Participation in a listening session will imply consent to capture participants' names, voices, and likenesses. Anything said may be recorded and transcribed for use by the Subcommittee or federal agencies that receive the feedback. Moderators will manage the discussion and order of remarks.

Individuals unable to attend the listening sessions or who would like to provide more detailed information may email ScientificIntegrityRFI@ostp.eop.gov with subject line “Scientific Integrity Policy Implementation Feedback.”

Dated: August 30, 2023.
Suzanne H. Plimpton,
Reports Clearance Officer, U.S. National Science Foundation.

[FR Doc. 2023-19094 Filed 9-1-23; 8:45 am]

BILLING CODE 7555-01-P